DEPARTMENT OF EDUCATION

[Docket No. ED-2020-SCC-0011]

Supplemental Support Under the American Rescue Plan (SSARP) Application; Correction

AGENCY: Department of Education (ED), Office of Postsecondary Education (OPE).

ACTION: Correction notice.

SUMMARY: On February 3, 2022, the U.S. Department of Education published a 60-day comment period notice in the Federal Register (Vol. 87, No. 23, Page 6154, Column 1, 2 and 3) seeking public comment for an information collection entitled, “Supplemental Support under the American Rescue Plan (SSARP) Application.” The comment closing date of April 4, 2022, has been corrected to March 7, 2022, due to this being a 30 day notice.

The PRA Coordinator, Strategic Collections and Clearance, Office of the Chief Data Officer, Office of Planning, Evaluation and Policy Development, hereby issues a correction notice as required by the Paperwork Reduction Act of 1995.

Dated: February 3, 2022.
Kate Mullan, PRA,
Coordinator, Strategic Collections and Clearance, Office of the Chief Data Officer, Office of Planning, Evaluation and Policy Development.

[FR Doc. 2022-02575 Filed 2-7-22; 8:45 am]

BILLING CODE 4000-01-P